FEDERAL COMMUNICATIONS COMMISSION

Notice of Public Information Collection(s) Being Submitted for Review to the Office of Management and Budget

September 19, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 27, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., Washington, DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0855.

Title: Telecommunications Reporting Worksheet, CC Docket No. 96-45.

Form Nos.: FCC Forms 499-A and 499-Q.

Type of Review: Revision of a currently approved collection.

Respondents: Business or other for-profit and not-for-profit institutions.

Number of Respondents: 5,625 respondents; 16,787 responses.

Estimated Time Per Response: 15 hours average burden per response.

Frequency of Response: On occasion, one-time, quarterly and annual reporting requirements, recordkeeping requirement, and third party disclosure requirement.

Total Annual Burden: 253,170 hours.

Total Annual Cost: N/A.

Privacy Act Impact Assessment: N/A.

Needs and Uses: This collection will be submitted as a revision after this 60 day comment period to Office of Management and Budget (OMB) in order to obtain the full three year clearance.

The Federal Communications Commission (Commission) requires telecommunications carriers and other providers of telecommunications to contribute to the Universal Service Fund (USF) and other funds. Contribution revenue data, as well as other information, are reported by carriers on Forms 499-A and 499-Q. Accompanying these forms are instructions on how to report revenue. The proposed revisions to this collection will provide clarifications to the 2007 FCC Forms 499-A, 499-Q, and instructions in order to improve the revenue reporting process for respondents. For instance, the revisions would provide guidance in the instructions to entities regarding which entity is responsible for filing the FCC Forms 499-A or 499-Q after two entities have merged or one entity has purchased another. As another example of the type of changes sought in this proposed collection revision, the forms and instructions would provide additional instructions encouraging respondents to enter e-mail addresses on the forms. Other proposed changes to the forms and instructions would help respondents better determine how to report subject revenues and generally seek to provide respondents with an efficient, less burdensome information collection. The revisions proposed to the collection will have a minimal effect on the burden associated with filing FCC Forms 499-A and 499-Q for respondents. These proposed revisions would go into effect with the April 1, 2007 filing.

In addition, the 2006 FCC Forms and instructions which already reflect the changes to the contribution methodology adopted in the 2006 Interim Contribution Methodology Order should remain in effect until the revised forms become effective for the April 1, 2007 filing and should continue to be available thereafter for filers to use in amending prior submissions. On July 27, 2006, the Commission received emergency approval of these information collection requirements from the Office of Management and Budget, which approval expires on January 31, 2007. The Commission has made minor editorial edits to the 2006 FCC Forms 499-A, 499-Q, and instructions. These changes included correction of typographical errors or omissions as well as other minor changes to ensure consistency between the forms and the instructions. The Commission asks that the information collection be approved by OMB.

Federal Communications Commission.
Marlene H. Dortch,
Secretary.

[FR Doc. E6-15718 Filed 9-26-06; 8:45 am]

BILLING CODE 6712-01-P